DEPARTMENT OF TRANSPORTATION

Pipeline and Hazardous Materials Safety Administration

[Docket No. PHMSA-2024-0137]

Pipeline Safety: Information Collection Activities

AGENCY: Pipeline and Hazardous Materials Safety Administration (PHMSA), DOT.

ACTION: Notice and request for comments.

SUMMARY: In accordance with the Paperwork Reduction Act of 1995, PHMSA invites public comments about PHMSA's intention to request Office of Management and Budget (OMB) approval to renew eight information collections that are scheduled to expire in 2025. PHMSA has reviewed each information collection and considers them vital to maintaining pipeline safety. As such, PHMSA will request renewal from OMB, without change, for each information collection.

DATES: Interested persons are invited to submit comments on or before December 9, 2024.

ADDRESSES: Comments may be submitted in the following ways:

E-Gov Website: http://www.regulations.gov. This site allows the public to submit comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m. ET, Monday through Friday, except Federal holidays.

Instructions: Identify the docket number, PHMSA-2024-0137, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov at any time or to Room W12-140 on the ground level of DOT, West Building, 1200 New Jersey Avenue SE, Washington, DC, between 9:00 a.m. and 5:00 p.m. ET, Monday through Friday, except Federal holidays. If you wish to receive confirmation of receipt of your written comments, please include a self-addressed, stamped postcard with the following statement: “Comments on: PHMSA-2024-0137.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

Privacy Act Statement: DOT may solicit comments from the public regarding certain general notices. DOT posts these comments, without edit, including any personal information the commenter provides, to www.regulations.gov, as described in the system of records notice (DOT/ALL—14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Angela Hill, DOT, PHMSA, 1200 New Jersey Avenue SE, PHP-30, Washington, DC 20590-0001. Any commentary PHMSA receives that is not specifically designated as CBI will be placed in the public docket for this matter.

FOR FURTHER INFORMATION CONTACT: Angela Hill by telephone at 202-366-1246 or by email at Angela.Hill@dot.gov.

SUPPLEMENTARY INFORMATION: Title 5, Code of Federal Regulations (CFR) section 1320.8(d), requires PHMSA to provide interested members of the public and affected agencies the opportunity to comment on information collection and recordkeeping requests before they are submitted to OMB for approval. This notice identifies eight information collection requests that PHMSA will submit to OMB for renewal and requests comment from interested parties. The information collections (including their expiration dates) are as follows: (1) OMB control number 2137-0627, OPID Assignment Request and Registry Notifications (03/31/2025); (2) OMB control number 2137-0600, Qualification of Pipeline Safety Training (04/30/2025); (3) OMB control number 2137-0605, Hazardous Liquid Integrity Management (04/30/2025); (4) OMB control number 2137-0622, Public Awareness Program (04/30/2025); (5) OMB control number 2137-0584, Gas and Liquid Pipeline Safety Program Certification (05/31/2025); (6) OMB control number 2137-0589, Response Plans for Onshore Oil Pipelines (9/30/2025); (7) OMB control number 2137-0610, Gas Transmission Integrity Management in HCAs (09/30/2025); and (8) OMB 2137-0624, Control Room Management/Human Factors (09/30/2025).

The following information is provided for these information collections: (1) Title of the information collection; (2) OMB control number; (3) Current expiration date; (4) Type of request; (5) Abstract of the information collection activity; (6) Description of affected public; (7) Estimate of total annual reporting and recordkeeping burden; and (8) Frequency of collection.

PHMSA will request a three-year term of approval for each of the following information collection activities. PHMSA requests comments on the following information:

1. Title: OPID Assignment Request and Registry Notifications.

OMB Control Number: 2137-0627.

Current Expiration Date: 3/31/2025.

Type of Request: Renewal with no change of a currently approved collection.

Abstract: The National Registry of Pipeline and LNG Operators serves as the storehouse for the reporting requirements for an operator regulated or subject to reporting requirements under 49 CFR parts 192, 193, or 195. This mandatory information collection would require jurisdictional pipeline operators to submit the required data to register with the National Registry of Pipeline and LNG Operators and notify PHMSA when they experience significant asset changes, including new construction, that affect PHMSA's ability to accurately monitor and assess pipeline safety performance. Certain types of changes to, or within, an operator's facilities or pipeline network represent potential safety-altering activities for which PHMSA may need to inspect, investigate, or otherwise oversee to ensure that any public safety concerns are adequately and proactively addressed. The forms for assigning and maintaining Operator Identification (OPID) information are the Operator Assignment Request Form (PHMSA F 1000.1) and Operator Registry Notification Form (PHMSA F 1000.2). The purpose of this information collection is to maintain an accurate assessment of the nation's pipeline infrastructure and to be kept abreast of conditions that could potentially compromise the safety and economic viability of the U.S. pipeline system. Due to the provisions contained within the Safety of Gas Gathering Pipelines: Extension of Reporting Requirements, Regulation of Large, High-Pressure Lines, and Other Related Amendments final rule, gas gathering pipeline operators must now request OPIDs due to the repeal of the reporting exception for gathering pipelines other than regulated gathering lines as determined in § 192.8. PHMSA plans to adjust the burden for this information collection to account for this addition to the reporting community.

Affected Public: Operators of natural gas and hazardous liquid pipeline systems and operators of liquefied natural gas facilities.

Annual Reporting and Recordkeeping Burden:

Estimated number of responses: 744.

Estimated annual burden hours: 744.

Frequency of collection: On occasion.

2. Title: Qualification of Pipeline Safety Training.

OMB Control Number: 2137-0600.

Current Expiration Date: 04/30/2025.

Type of Request: Renewal with no change of a currently approved information collection.

Abstract: 49 CFR part 192 subpart N and part 195 subpart G require all individuals who operate and maintain pipeline facilities to be qualified and keep records of qualification. The purpose of this mandatory information collection request is to ensure compliance with the record keeping requirements prescribed in the federal pipeline safety regulations. Pipeline operators must make and maintain the records as described and have those records available for compliance inspection by PHMSA staff upon request. Examples of such records include the identification of qualified individuals; identification of covered tasks; dates of current qualification; and qualification methods. Records supporting an individual's current qualification shall be maintained while the individual is performing the covered task. Records of prior qualification and records of individuals no longer performing covered tasks shall be retained for a period of five years.

Affected Public: Operators of PHMSA-regulated pipelines.

Annual Reporting and Recordkeeping Burden:

Total Annual Responses: 29,172.

Total Annual Burden Hours: 7,293.

Frequency of Collection: On occasion.

3. Title: Hazardous Liquid Integrity Management.

OMB Control Number: 2137-0605.

Current Expiration Date: 04/30/2025.

Type of Request: Renewal with no change of a currently approved information collection.

Abstract: Operators of Hazardous Liquid Pipelines are required to document the continual assessment and evaluation of their pipelines' integrity through inspection or testing, as well as remedial preventive, and mitigative actions. In cases where a determination about pipeline threats has not been obtained within 180 days following the date of inspection, pipeline operators must notify PHMSA in writing and provide an expected date when adequate information will become available. Operators must also notify PHMSA if they are unable to assess their pipeline via an in-line inspection. Operators who choose to use an alternate assessment method must demonstrate that their pipeline is not capable of accommodating an in-line inspection tool and that the use of an alternative assessment method will provide a substantially equivalent understanding of the condition of the pipeline. This mandatory record keeping requirement supports the U.S. Department of Transportation's “SAFETY STRATEGIC GOAL” which targets three main strategic initiatives: managing risk and integrity, sharing responsibility, and providing effective stewardship. This goal enhances public health and safety by working toward the elimination of transportation-related deaths and injuries. This information is used by PHMSA to determine compliance with federal pipeline safety regulations and is also used by Agency and State Officials to assist federal and state pipeline safety inspectors who audit this information when they conduct compliance inspections and to provide background for failure investigations.

Affected Public: Operators of hazardous liquid pipeline systems.

Annual Reporting and Recordkeeping Burden:

Estimated number of responses: 10,515.

Estimated annual burden hours: 344,807.

Frequency of Collection: On occasion.

4. Title: Public Awareness Program.

OMB Control Number: 2137-0622.

Current Expiration Date: 04/30/2025.

Type of Request: Renewal with no change of a currently approved information collection.

Abstract: This information collection request would require pipeline operators to develop and implement public awareness programs. The public awareness programs should establish communications and provide information necessary to enhance public understanding of how pipelines function and the public's role in promoting pipeline safety. This mandatory information collection requires operators to submit their completed programs to PHMSA or, in the case of an intrastate pipeline facility operator, the appropriate State agency. The operator's program documentation and evaluation results must also be available for periodic review by appropriate regulatory agencies. This information will be used by PHMSA to evaluate compliance with pipeline safety regulations. The purpose of the collection is to prevent the risks caused by unintentional pipeline releases and their impact on the public and the environment.

Affected Public: Operators of natural gas and hazardous liquid pipelines.

Annual Reporting and Recordkeeping Burden:

Estimated number of responses: 45,004.

Estimated annual burden hours: 517,546.

Frequency of Collection: On occasion.

5. Title: Gas and Liquid Pipeline Safety Program Certification.

OMB Control Number: 2137-0584.

Current Expiration Date: 05/31/2025.

Type of Request: Renewal with no change of a currently approved information collection.

Abstract: Section 60105 of 49 U.S.C. sets forth specific requirements a state must meet to qualify for certification status to assume regulatory and enforcement responsibility for intrastate pipelines, i.e., state adoption of minimum federal safety standards, state inspection of pipeline operators to determine compliance with the standards, and state provision for enforcement sanctions substantially the same as those authorized by chapter 601, 49 U.S.C. A state must submit an annual certification to assume responsibility for regulating intrastate pipelines, and states who receive Federal grant funding must have adequate damage prevention plans and associated records in place. PHMSA uses this information to evaluate a state's eligibility for Federal grants and to enforce regulatory compliance. This information collection request requires a participating state to annually submit a Gas Pipeline Safety Program Certification and/or a Hazardous Liquid Pipeline Safety Program Certification to PHMSA's Office of Pipeline Safety (OPS) signifying compliance with the terms of the certification and to maintain records detailing a damage prevention plan for PHMSA inspectors whenever requested. The purpose of the collection is to exercise oversight of the grant program and to ensure that states are compliant with federal pipeline safety regulations.

Affected Public: Operators of pipeline facilities.

Annual Reporting and Recordkeeping Burden:

Estimated number of responses: 117.

Estimated annual burden hours: 4,473.

Frequency of collection: On occasion.

6. Title: Response Plans for Onshore Oil Pipelines.

OMB Control Number: 2137-0589.

Current Expiration Date: 09/30/2025.

Type of Request: Renewal with no change of a currently approved information collection.

Abstract: Title 49 CFR part 194 requires an operator of an onshore oil pipeline facility to prepare and submit an oil spill response plan to PHMSA for review and approval. This mandatory recordkeeping requirement details operators' plans to prepare for emergency situations involving oil spills. This mandatory information collection is used by PHMSA to determine if an operator is compliant with the requirements in part 194. Plans are submitted and/or updated annually. This information collection covers operators' submission of facility response plans for onshore hazardous liquid pipeline facilities.

Affected Public: Operators of onshore oil pipeline facilities.

Annual Reporting and Recordkeeping Burden:

Estimated number of responses: 540.

Estimated Annual Burden Hours: 73,980.

Frequency of Collection: On occasion.

7. Title: Gas Transmission Integrity Management in High Consequence Areas.

OMB Control Number: 2137-0610.

Current Expiration Date: 09/30/2025.

Type of Request: Renewal with no change of a currently approved information collection.

Abstract: This mandatory information collection request pertains to gas transmission operators jurisdictional to 49 CFR part 192 subpart O Gas Transmission Integrity Management Program. The information collection requires gas transmission operators in high consequence areas to maintain a written integrity management program and keep records that demonstrate compliance with 49 CFR part 192 subpart O. Operators must maintain their integrity management records for the life of the pipeline, and PHMSA or State regulators may review it as a part of inspections. Gas transmission operators are also required to report to PHMSA certain actions related to their integrity management program. This information collection supports the DOT strategic goal of safety by reducing the number of incidents in natural gas transmission pipelines.

Affected Public: Operators of gas transmission pipeline systems.

Annual Reporting and Recordkeeping Burden:

Estimated Number of Responses: 733.

Estimated Annual Burden Hours: 1,018,807.

Frequency of Collection: On occasion.

8. Title: Control Room Management/Human Factors.

OMB Control Number: 2137-0624.

Current Expiration Date: 09/30/2025.

Type of Request: Renewal with no change of a currently approved information collection.

Abstract: Operators of gas and hazardous liquid pipelines must develop, implement, and submit a human factors management plans designed to reduce risk associated with human factors in each control room. This mandatory record keeping requirement supports the U.S. Department of Transportation's “SAFETY STRATEGIC GOAL” which targets three main strategic initiatives: managing risk and integrity, sharing responsibility, and providing effective stewardship. This goal enhances public health and safety by working toward the elimination of transportation-related deaths and injuries. The information is used by PHMSA to determine compliance with federal pipeline safety regulations and is also used by Agency and State Officials to assist federal and state pipeline safety inspectors who audit this information when they conduct compliance inspections and to provide background for failure investigations.

Affected Public: Operators of natural gas and hazardous liquid pipeline systems.

Annual Reporting and Recordkeeping Burden:

Estimated Number of Responses: 11,656.

Estimated Annual Burden Hours: 127,328.

Frequency of Collection: On occasion.

Comments are invited on:

(a) The need for the renewal and revision of these collections of information for the proper performance of the functions of the Agency, including whether the information will have practical utility;

(b) The accuracy of the Agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on October 3, 2024, under authority delegated in 49 CFR 1.97.
John A. Gale,
Director, Standards and Rulemaking Division.

[FR Doc. 2024-23435 Filed 10-9-24; 8:45 am]

BILLING CODE 4910-60-P